DEPARTMENT OF THE INTERIOR

National Park Service

Boston Harbor Islands Advisory Council; Notice of Meeting

Notice is hereby given in accordance with the Federal Advisory Committee Act (PL 92-463) that the Boston Harbor Islands Advisory Council will meet on Wednesday, March 7th, 2001. The meeting will convene at 6 pm at the Children's Museum, 300 Congress Street, Auditorium, Boston, Massachusetts.

The Advisory Council was appointed by the Director of National Park Service pursuant to Public Law 104-333. The 28 members represent business, educational/cultural, community and environmental entities; municipalities surrounding Boston Harbor; Boston Harbor advocates; and Native American interests. The purpose of the Council is to advise and make recommendations to the Boston Harbor Islands Partnership with respect to the development and implementation of a management plan and the operation of the Boston Harbor Islands National Recreation Area.

The Agenda for this meeting is as follows:

1. Approval of minutes from December 6, 2000.

2. Nomination and Election Process.

3. Annual Report.

4. Speaker series.

5. Guest Speaker.

6. Other business.

The meeting is open to the public. Further information concerning Council meetings may be obtained from the Superintendent, Boston Harbor Islands. Interested persons may make oral/written presentations to the Council or file written statements. Such requests should be made at least seven days prior to the meeting to: Superintendent, Boston Harbor Islands NRA, 408 Atlantic Ave., Boston, MA, 02110, telephone (617) 223-8667.

Dated: January 26, 2001.
George E. Price, Jr.,
Superintendent, Boston Harbor Islands NRA.

[FR Doc. 01-4006 Filed 2-15-01; 8:45 am]

BILLING CODE 4310-70-P